DEPARTMENT OF HOMELAND SECURITY

Transportation Security Administration

Aviation Security Advisory Committee Meeting

AGENCY: Transportation Security Administration (TSA), DHS.

ACTION: Notice of meeting.

SUMMARY: This notice announces a telephonic meeting of the Aviation Security Advisory Committee (ASAC).

DATES: The meeting will take place on August 16, 2006, from 2:30 p.m. to 3:30 p.m., Eastern time.

ADDRESSES: The meeting will be held by telephonic conference call. Dial-in instructions are set forth in the SUPPLEMENTARY INFORMATION section below.

FOR FURTHER INFORMATION CONTACT: Richard Swigart, Office of Transportation Sector Network Management (TSA-28), TSA Headquarters, 601 South 12th Street, Arlington, VA 22202; telephone 571-227-3719, e-mail richard.swigart@dhs.gov.

SUPPLEMENTARY INFORMATION: This meeting is announced pursuant to section 10(a)(2) of the Federal Advisory Committee Act, as amended (5 U.S.C. App.). The agenda for the meeting will include presentation of the report and recommendations of the Baggage Screening Investment Study (BSIS) working group.

This meeting, from 2:30 p.m. to 3:30 p.m., is open to the public but telephonic conferencing capacity is limited. Members of the public who wish to monitor the discussion may dial into this telephonic meeting by dialing (800) 988-9352. At the prompt, provide the conference code “ASAC” (pronounced “A-sack”). Parties calling from locations outside the United States must contact the person listed under the heading FOR FURTHER INFORMATION CONTACT, for international calling instructions.

Persons desiring a copy of the working group's report may request it by contacting the person listed under the heading FOR FURTHER INFORMATION CONTACT.

Members of the public must make advance arrangements to present oral statements at this ASAC meeting. Written statements may be presented to the committee by providing copies of them to the Chair prior to the meeting. Comments may be sent to the person listed under the heading FOR FURTHER INFORMATION CONTACT. Anyone in need of assistance or a reasonable accommodation for the meeting should contact the person listed under the heading FOR FURTHER INFORMATION CONTACT.

Issued in Arlington, Virginia, on July 21, 2006.
John Sammon,
Assistant Administrator for Transportation Sector Network Management.

[FR Doc. E6-11935 Filed 7-25-06; 8:45 am]

BILLING CODE 9110-05-P